DEPARTMENT OF ENERGY

Federal Energy Regulatory Commission

Combined Notice of Filings

Take notice that the Commission has received the following Natural Gas Pipeline Rate and Refund Report filings:

Filings Instituting Proceedings

Docket Numbers: PR24-62-000.

Applicants: Delaware Link Ventures, LLC.

Description: 284.123(g) Rate Filing: Baseline new SOC to be effective 4/1/2024.

Filed Date: 4/1/24.

Accession Number: 20240401-5581.

Comment Date: 5 p.m. ET 4/22/24.

284.123(g) Protest: 5 p.m. ET 5/31/24.

Docket Numbers: RP24-630-000.

Applicants: Alliance Pipeline L.P.

Description: 4(d) Rate Filing: Negotiated Rates—Various Apr 1 2024 Releases to be effective 4/1/2024.

Filed Date: 4/1/24.

Accession Number: 20240401-5397.

Comment Date: 5 p.m. ET 4/15/24.

Docket Numbers: RP24-631-000.

Applicants: Texas Eastern Transmission, LP.

Description: 4(d) Rate Filing: Negotiated Rates—Sequent 911941 and 911942 eff 4-1-24 to be effective 4/1/2024.

Filed Date: 4/1/24.

Accession Number: 20240401-5444.

Comment Date: 5 p.m. ET 4/15/24.

Docket Numbers: RP24-632-000.

Applicants: Egan Hub Storage, LLC.

Description: 4(d) Rate Filing: Six One Commodities—contract 310845 to be effective 4/1/2024.

Filed Date: 4/1/24.

Accession Number: 20240401-5486.

Comment Date: 5 p.m. ET 4/15/24.

Docket Numbers: RP24-633-000.

Applicants: Texas Eastern Transmission, LP.

Description: 4(d) Rate Filing: Negotiated Rates—Hartree 911943 and 911944 to be effective 4/1/2024.

Filed Date: 4/1/24.

Accession Number: 20240401-5527.

Comment Date: 5 p.m. ET 4/15/24.

Docket Numbers: RP24-634-000.

Applicants: ANR Pipeline Company.

Description: 4(d) Rate Filing: ANR April 1 Negotiated Rate Agreements to be effective 4/1/2024.

Filed Date: 4/1/24.

Accession Number: 20240401-5534.

Comment Date: 5 p.m. ET 4/15/24.

Docket Numbers: RP24-635-000.

Applicants: Columbia Gulf Transmission, LLC.

Description: 4(d) Rate Filing: Neg Rate NC Amendment—Kaiser 174463-7 to be effective 4/1/2024.

Filed Date: 4/1/24.

Accession Number: 20240401-5557.

Comment Date: 5 p.m. ET 4/15/24.

Docket Numbers: RP24-636-000.

Applicants: Texas Gas Transmission, LLC.

Description: Compliance filing: Compliance Filing in CP21-467 (Henderson County Customer Lateral) to be effective 5/1/2024.

Filed Date: 4/1/24.

Accession Number: 20240401-5580.

Comment Date: 5 p.m. ET 4/15/24.

Docket Numbers: RP24-637-000.

Applicants: Columbia Gas Transmission, LLC.

Description: 4(d) Rate Filing: TCO Negotiated Rate Agreements Eff. 4.1.24 to be effective 4/1/2024.

Filed Date: 4/1/24.

Accession Number: 20240401-5584.

Comment Date: 5 p.m. ET 4/15/24.

Docket Numbers: RP24-638-000.

Applicants: Texas Gas Transmission, LLC.

Description: 4(d) Rate Filing: Cap Rel Neg Rate Agmt (Jay-Bee 34446 to Spotlight 57844) to be effective 4/1/2024.

Filed Date: 4/1/24.

Accession Number: 20240401-5594.

Comment Date: 5 p.m. ET 4/15/24.

Docket Numbers: RP24-639-000.

Applicants: Texas Gas Transmission, LLC.

Description: 4(d) Rate Filing: Amendment to Neg Rate Agmt (LGE 34951) to be effective 4/1/2024.

Filed Date: 4/1/24.

Accession Number: 20240401-5597.

Comment Date: 5 p.m. ET 4/15/24.

Docket Numbers: RP24-640-000.

Applicants: Texas Gas Transmission, LLC.

Description: 4(d) Rate Filing: Amendment to Neg Rate Agmt (Midwest 35495) to be effective 4/1/2024.

Filed Date: 4/1/24.

Accession Number: 20240401-5600.

Comment Date: 5 p.m. ET 4/15/24.

Docket Numbers: RP24-641-000.

Applicants: Texas Gas Transmission, LLC.

Description: 4(d) Rate Filing: Amendment to Neg Rate Agmt (PEAK 34950) to be effective 4/1/2024.

Filed Date: 4/1/24.

Accession Number: 20240401-5606.

Comment Date: 5 p.m. ET 4/15/24.

Docket Numbers: RP24-642-000.

Applicants: Texas Gas Transmission, LLC.

Description: 4(d) Rate Filing: Amendment to Neg Rate Agmt (Sabine 35030) to be effective 4/1/2024.

Filed Date: 4/1/24.

Accession Number: 20240401-5609.

Comment Date: 5 p.m. ET 4/15/24.

Docket Numbers: RP24-643-000.

Applicants: Texas Gas Transmission, LLC.

Description: 4(d) Rate Filing: Cap Rel Neg Rate Agmt (SIGECO 26787 to Tenaska 58004) to be effective 4/1/2024.

Filed Date: 4/1/24.

Accession Number: 20240401-5611.

Comment Date: 5 p.m. ET 4/15/24.

Docket Numbers: RP24-644-000.

Applicants: Texas Gas Transmission, LLC.

Description: 4(d) Rate Filing: Amendment to Neg Rate Agmt (SIGECO 35496) to be effective 4/1/2024.

Filed Date: 4/1/24.

Accession Number: 20240401-5614.

Comment Date: 5 p.m. ET 4/15/24.

Docket Numbers: RP24-645-000.

Applicants: Gulf South Pipeline Company, LLC.

Description: 4(d) Rate Filing: Re-submission of Devon 51759 to be effective 4/1/2024.

Filed Date: 4/1/24.

Accession Number: 20240401-5619.

Comment Date: 5 p.m. ET 4/15/24.

Docket Numbers: RP24-646-000.

Applicants: Rager Mountain Storage Company LLC.

Description: 4(d) Rate Filing: ILPS FOSA Update to be effective 5/1/2024.

Filed Date: 4/1/24.

Accession Number: 20240401-5622.

Comment Date: 5 p.m. ET 4/15/24.

Docket Numbers: RP24-647-000.

Applicants: Gulf South Pipeline Company, LLC.

Description: 4(d) Rate Filing: Cap Rel Neg Rate Agmts (FPL 41618, 41619 to Scona 57949, 57948) to be effective 4/1/2024.

Filed Date: 4/1/24.

Accession Number: 20240401-5623.

Comment Date: 5 p.m. ET 4/15/24.

Docket Numbers: RP24-648-000.

Applicants: Gulf South Pipeline Company, LLC.

Description: 4(d) Rate Filing: Cap Rel Neg Rate Agmt (Osaka 46426 to Texla 58054) to be effective 4/1/2024.

Filed Date: 4/1/24.

Accession Number: 20240401-5624.

Comment Date: 5 p.m. ET 4/15/24.

Docket Numbers: RP24-649-000.

Applicants: Gulf South Pipeline Company, LLC.

Description: 4(d) Rate Filing: Cap Rel Neg Rate Agmts (WSGP to Tenaska) to be effective 4/1/2024.

Filed Date: 4/1/24.

Accession Number: 20240401-5628.

Comment Date: 5 p.m. ET 4/15/24.

Docket Numbers: RP24-650-000.

Applicants: Gulf South Pipeline Company, LLC.

Description: 4(d) Rate Filing: Cap Rel Neg Rate Agmts (JERA 46434, 46435 to EDF 57972, 57975) to be effective 4/1/2024.

Filed Date: 4/2/24.

Accession Number: 20240402-5003.

Comment Date: 5 p.m. ET 4/15/24.

Docket Numbers: RP24-651-000.

Applicants: Alliance Pipeline L.P.

Description: 4(d) Rate Filing: Alliance Housekeeping Filing to be effective 4/1/2024.

Filed Date: 4/2/24.

Accession Number: 20240402-5093.

Comment Date: 5 p.m. ET 4/15/24.

Docket Numbers: RP24-652-000.

Applicants: Rover Pipeline LLC.

Description: 4(d) Rate Filing: Summary of Negotiated Rate Capacity Release Agreements 4-2-2024 to be effective 4/1/2024.

Filed Date: 4/2/24.

Accession Number: 20240402-5101.

Comment Date: 5 p.m. ET 4/15/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-363-001.

Applicants: Equitrans, L.P.

Description: Compliance filing: Crediting of Revenue Penalty Threshold—Compliance Filing to be effective 3/1/2024.

Filed Date: 4/2/24.

Accession Number: 20240402-5129.

Comment Date: 5 p.m. ET 4/15/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 2, 2024.
Debbie-Anne A. Reese,
Acting Secretary.

[FR Doc. 2024-07419 Filed 4-5-24; 8:45 am]

BILLING CODE 6717-01-P